ENVIRONMENTAL PROTECTION AGENCY

[EPA-HQ-OA-2021-0848; FRL-9320-01-OA]

National Environmental Justice Advisory Council; Notification for a Virtual Public Meeting

AGENCY: Environmental Protection Agency (EPA).

ACTION: Notification for a public meeting.

SUMMARY: Pursuant to the Federal Advisory Committee Act (FACA), the U.S. Environmental Protection Agency (EPA) hereby provides notice that the National Environmental Justice Advisory Council (NEJAC) will meet on the date and time described below. The meeting is open to the public. Members of the public are encouraged to provide comments relevant to the specific issues being considered by the NEJAC. For additional information about registering to attend the meeting or to provide public comment, please see “REGISTRATION” under SUPPLEMENTARY INFORMATION Pre-registration is required.

DATES: The NEJAC will hold a virtual public meeting on Wednesday, January 5, 2022, from approximately 1:00 p.m. to 4:00 p.m., Eastern Time. A public comment period relevant to the specific issues will be considered by the NEJAC during the meeting (see SUPPLEMENTARY INFORMATION). Members of the public who wish to participate during the public comment period must pre-register by 11:59 p.m., Eastern Time, one (1) week prior to the start of the meeting date.

FOR FURTHER INFORMATION CONTACT: Fred Jenkins, NEJAC Designated Federal Officer, U.S. EPA; please send via email to jenkins.fred@epa.gov or contact Fred Jenkins at (703) 308-7049. Additional information about the NEJAC is available at https://www.epa.gov/environmentaljustice/national-environmental-justice-advisory-council.

SUPPLEMENTARY INFORMATION: The meeting discussion will focus on the environmental justice and civil rights compliance elements in the EPA's next multiyear strategic plan draft and the future implementation of those elements, as well as other aligned efforts and plans of the agency. The Charter of the NEJAC states that its purpose is to provide independent advice and recommendations to the EPA Administrator about broad, crosscutting issues related to environmental justice. The NEJAC's efforts will include evaluation of a broad range of strategic, scientific, technological, regulatory, community engagement and economic issues related to environmental justice.

Registration: Individual registration is required for the virtual public meeting. Two individuals cannot share the same registration link during the meeting. Information on how to register is located https://www.epa.gov/environmentaljustice/national-environmental-justice-advisory-council-meetings. Registration to attend the meetings is open through the scheduled end time of the meeting day. Registration to speak during the public comment period will close at 11:59 p.m., Eastern Time, one (1) week prior to meeting date. When registering, please provide your name, organization, city and state, and email address for follow up. Please also indicate whether you would like to provide public comment during the meeting, and whether you are submitting written comments at time of registration.

A. Public Comment

Every effort will be made to hear from as many registered public commenters during the time specified on the agenda. Individuals or groups making remarks during the oral public comment period will be limited to three (3) minutes. Submitting written comments for the record are strongly encouraged. You can submit your written comments in three different ways, (1.) by creating comments in the Docket ID No. EPA-HQ-OA-2021-0848 at http://www.regulations.gov, (2.) by using the webform at https://www.epa.gov/environmentaljustice/forms/national-environmental-justice-advisory-council-nejac-public-comment, and (3.) by sending comments via email to nejac@epa.gov . Written comments can be submitted up until two (2) weeks after the meeting date.

B. Information About Services for Individuals With Disabilities or Requiring English Language Translation Assistance

For information about access or services for individuals requiring assistance, please contact Fred Jenkins, via email at: nejac@epa.gov or contact by phone at (703) 308-7049. To request special accommodations for a disability or other assistance, please submit your request at least seven (7) working days prior to the meeting, to give EPA sufficient time to process your request. All requests should be sent to the email, listed in the FOR FURTHER INFORMATION CONTACT section.

Matthew Tejada,
Director for the Office of Environmental Justice.

[FR Doc. 2021-26097 Filed 11-30-21; 8:45 am]

BILLING CODE 6560-50-P